DEPARTMENT OF COMMERCE

National Telecommunications and Information Administration

Renewal and Revision of a Previously Approved Information Collection; Comment Request; State Broadband Data and Development Grant Program

ACTION: Notice.

SUMMARY: The Department of Commerce, as part of its continuing effort to reduce paperwork and respondent burden, invites the general public and other Federal agencies to comment on continuing and revising this information collection, as required by the Paperwork Reduction Act of 1995, Public Law 104-13 (44 U.S.C. 3506(c)(2)(A)).

DATES: Written comments must be submitted on or before April 8, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument(s) and instructions should be directed to Anne Neville, Director, State Broadband Initiative, National Telecommunications and Information Administration (NTIA), Room 4898, U.S. Department of Commerce, 1401 Constitution Avenue NW., Washington DC 20230 (or via email to aneville@ntia.doc.gov).

SUPPLEMENTARY INFORMATION:

I. Abstract

This request is for an extension and revision of a currently approved information collection.

In 2009 and 2010, under the Broadband Data Improvement Act and the American Recovery and Reinvestment Act of 2009, NTIA awarded grants to states, or their designees, to gather and verify state-specific broadband data, including the the maximum advertised speed, technology type and spectrum (if applicable) for each broadband provider offering service in each census block, or, in census blocks greater than two square miles, each road segment (See 74 FR 32545, July 8, 2009 and 74 FR 46573, Sept. 10, 2009). Additionally, grants included funding to collect the maximum advertised speed and technology type to which various classes of Community Anchor Institutions (CAIs) subscribe. Recipients are funded to conduct this activity until approximately December 31, 2014.

The recipients gather and verify data twice per year, submitting the information to NTIA each October 1 and April 1. States use the data to populate state broadband maps, and NTIA uses the data to populate the National Broadband Map. The data is also freely available for stakeholders to use, via Application Programming Interfaces (APIs) and in various file formats. Numerous public and private stakeholders currently use the data to inform funding, policy and commercial decisions. Consumers and businesses use the data to identify where broadband is available, the advertised speeds and other information.

Despite the importance of broadband to the U.S. economy, information about broadband availability was not widely available until NTIA and the states developed this dataset. The data collected will continue to provide critical information for grant-making, regulatory and policy-making efforts, and to improve the quality of state-level broadband information.

NTIA proposes to revise the currently approved reporting requirements to include with each submission of data several “best practices” documents including a document describing each recipient's methodology for collecting and verifying data, a document that summarizes any major changes or corrections to data from the previous submission and a short text file (also known as a “readme” file) that summarizes basic, technical information for the dataset. Recipients began providing this information to NTIA as a best practice because it provided more transparency into their process and supported the efficient review of data. Note that at this time, NTIA is not proposing to revise the broadband availability or CAI adoption data that each recipient collects, though it may consider changes at a future date.

II. Method of Collection

Awardees will continue to submit all reports via the Internet.

III. Data

OMB Control Number: 0660-0032.

Form Number: None.

Type of Review: Regular submission (revision and extension of a currently approved collection).

Affected Public: States, territories and the District of Columbia or their designees. Subrespondents include facilities-based providers of broadband connections, incumbent and competitive local exchange carriers, facilities-based mobile telephony service providers and wireless Internet service providers.

Estimated Number of Total Respondents: 56 respondents; 2,000 subrespondents.

Estimated Time per Response: 3,123 hours for respondents; 50 hours for subrespondents.

Estimated Total Annual Burden Hours: 549,776.

Estimated Total Annual Cost to the Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of the information collection. Comments will also become a matter of public record.

Dated: February 1, 2013.
Gwellnar Banks,
Management Analyst, Office of the Chief Information Officer.

[FR Doc. 2013-02713 Filed 2-6-13; 8:45 am]

BILLING CODE 3510-06-P